DEPARTMENT OF VETERANS AFFAIRS

Chiropractic Advisory Committee; Notice of Meeting

The Department of Veterans Affairs (VA) gives notice under Public Law 92-463 (Federal Advisory Committee Act) that the Chiropractic Advisory Committee will meet Tuesday, December 2, 2003, from 1:30 p.m. until 4:15 p.m., and Wednesday, December 3, 2003 from 8:15 until 4 p.m., in the 7th floor conference room of The American Legion, 1608 K St. NW., Washington, DC 20006. The meeting is open to the public.

The purpose of the Committee is to provide direct assistance and advice to the Secretary of Veterans Affairs in the development and implementation of the chiropractic health program. Matters on which the Committee shall assist and advise the Secretary include protocols governing referrals to chiropractors and direct access to chiropractic care, scope of practice of chiropractic practitioners, definitions of services to be provided and such other matters as the Secretary determines to be appropriate.

On December 2, Committee members will discuss the status of the recommendations to the Secretary; receive a briefing on VA educational resources and polices; discuss their work plan; and, as time permits, begin discussion of educational recommendations. On December 3, the Committee will receive an update on the status of the chiropractic occupational study; continue discussions on educational issues; and discuss the agenda for the next meeting.

Any member of the public wishing to attend the meeting is requested to contact Ms. Sara McVicker, RN, MN, Designated Federal Officer, at (202) 273-8558 no later than noon Eastern time on Tuesday, November 25, 2003, in order to facilitate entry to the building.

Public comments will not be accepted at the meeting. It is preferred that any comments be transmitted electronically to sara.mcvicker@mail.va.gov or mailed to: Chiropractic Advisory Committee, Primary Care, Medical Surgical Services SHG (111), U.S. Department of Veterans Affairs, 810 Vermont Avenue, NW., Washington, DC 20420. Items mailed via United States Postal Service require 7-10 days for delivery due to delays resulting from security measures.

Dated: November 10, 2003.
E. Philip Riggin,
Committee Management Officer.

[FR Doc. 03-28681 Filed 11-17-03; 8:45 am]

BILLING CODE 8320-01-M